DEPARTMENT OF THE INTERIOR

Bureau of Land Management

[CA 670 1232 FH]

Proposed Supplementary Rules on Public Land in California

AGENCY: Bureau of Land Management, Interior.

ACTION: Notice of proposed supplementary rules.

SUMMARY: This notice contains proposed supplementary rules which will apply to the public lands within the Adaptive Management Area (AMA) in the Imperial Sand Dunes Recreation Area (ISDRA) managed by the El Centro Field Office in Imperial County, California. This action is necessary in order to maintain viable populations of all native species, maintain habitat connectivity, and provide high quality, unique, world-class, day-use, semi-primitive, motorized recreation opportunities for off-highway vehicle (OHV) activities and non-vehicular recreational activities throughout the Adaptive Management Area and Imperial Sand Dunes Recreation Area. We intend the supplementary rules to allow the Bureau of Land Management (BLM) to manage AMA area in order to provide recreational opportunities while allowing for the conservation of habitat and plants and species of concern.

DATES: You should submit your comments by November 21, 2005.

ADDRESSES: You may submit comments, identified with the subject line “AMA Supplementary Rule,” by any of the following methods:

• E-mail: rleloup@ca.blm.gov. Include AMA Supplementary Rule in the subject line of the message.

• Fax: 760-337-4490, Attn: Chief Ranger Ray LeLoup.

• Mail: Bureau of Land Management, El Centro Field Office, 1661 S. 4th Street, El Centro, CA 92243, Attn: Chief Ranger Ray LeLoup.

• Hand Delivery / Courier: 1661 South 4th St., El Centro, CA 92243.

FOR FURTHER INFORMATION CONTACT: Chief Ranger Ray LeLoup, 760-337-4475.

SUPPLEMENTARY INFORMATION:

I. Procedures for Submitting Comments

II. Background

III. Discussion of the Supplementary Rules

IV. Procedural Matters

I. Procedures for Submitting Comments

Written comments on the proposed rule should be specific, confined to issues pertinent to the proposed rule, and should explain the reason for any recommended change. Where possible, comments should reference the specific section or paragraph of the proposal that you are addressing. BLM need not consider or include in the Administrative Record for the final rule comments which BLM receives after the close of the comment period (See DATES) or comments delivered to an address other than those listed above (See ADDRESSES).

Comments, including names, street addresses, and other contact information of respondents, will be available for public review at 1661 S. 4th St., El Centro, CA 92243 during regular business hours (7:45 a.m. to 3:45 p.m.), Monday through Friday, except Federal holidays. Individual respondents may request confidentiality. If you wish to request that BLM consider withholding your name, street address, and other contact information (such as: Internet address, FAX or phone number) from public review or from disclosure under the Freedom of Information Act, you must state this prominently at the beginning of your comment. BLM will honor requests for confidentiality on a case-by-case basis to the extent allowed by law. BLM will make available for public inspection in their entirety all submissions from organizations or businesses, and from individuals identifying themselves as representatives or officials of organizations or businesses.

II. Background

The Adaptive Management Area was created in the 2003 Imperial Sand Dunes Recreation Area Management Plan. The Adaptive Management Area is located within the Imperial Sand Dunes Recreation Area in the following described sections:

San Bernardino Meridian

T. 14 S., R. 18 E., sec. 58;

T. 14 S., R. 19 E., secs. 31 to 35 inclusive;

T. 15 S., R. 18 E., sec. 1 and sec. 12;

T. 15 S., R. 19 E., secs. 1 to 15 inclusive; secs. 17 and 18; secs. 20 to 28 inclusive; secs. 34 to 59 inclusive;

T. 15 S., R. 20 E., sec. 7; secs. 17 to 21 inclusive; secs. 29 to 31 inclusive;

T. 16 S., R. 19 E., secs. 1 and 2; sec. 12;

T. 16 S., R. 20 E., sec. 39.

The Adaptive Management Area contains approximately 33,289 acres of BLM managed land and contains the most widely diverse habitat in the ISDRA. Historical recreational use of the AMA area is low to moderate. The AMA provides for semi-primitive motorized recreation opportunities and experiences. Anecdotal information suggests that visitor use is low compared to the remainder of the IDRA. Visitors come in small groups of vehicles and take part in OHV recreation throughout the ISDRA. BLM's goal is to manage the AMA in a manner that provides recreational opportunities while allowing for the conservation of habitat and plants and species of concern.

III. Discussion of the Supplementary Rules

The supplementary rules will apply to the public lands within the Adaptive Management Area in the Imperial Sand Dunes Recreation Area. The Bureau of Land Management has determined these rules are necessary to protect the area's natural resources and to provide recreational opportunities. This area will be managed using principles of adaptive management, which will allow for the continuous improvement of management policies and practices based on previous outcomes of operational programs. Adaptive management is a way for managers to proceed responsibly in the face of multiple uncertainties. In order to fulfill the Bureau of Land Management's obligations under the Federal regulations, BLM must carefully manage OHV recreation so that the conditions of the special status species and other unique natural and cultural resources are maintained or improved. It is crucial to have the supplementary rules in place in order to allow for the multiple use of the resource area. A more detailed explanation as to the need for such a rule may be found in the Final Environmental Impact Statement (EIS) for the Imperial Sand Dunes Recreation Area dated May 2003. Please see pages #96-141.

IV. Procedural Matters

Executive Order 12866, Regulatory Planning and Review

These proposed supplementary rules are not a significant regulatory action and are not subject to review by Office of Management and Budget under Executive Order 12866. These proposed supplementary rules will not have an annual effect of $100 million or more on the economy. They will not adversely affect in a material way the economy, productivity, competition, jobs, the environment, public health or safety, or state, local, or tribal governments or communities. These proposed supplementary rules will not create a serious inconsistency or otherwise interfere with an action taken or planned by another agency. These proposed supplementary rules do not materially alter the budgetary effects of entitlements, grants, user fees, or loan programs or the rights or obligations of their recipients; nor do they raise novel legal or policy issues. They merely impose rules of conduct and impose other limitations on certain recreational activities on certain public lands to protect natural resources.

Clarity of the Supplementary Rules

Executive Order 12866 requires each agency to write regulations that are simple and easy to understand. We invite your comments on how to make these proposed supplementary rules easier to understand, including answers to questions such as the following: (1) Are the requirements in the proposed supplementary rules clearly stated? (2) Do the proposed supplementary rules contain technical language or jargon that interferes with their clarity? (3) Does the format of the proposed supplementary rules (grouping and order of sections, use of headings, paragraphing, etc.) aid or reduce their clarity? (4) Would the supplementary rules be easier to understand if they were divided into more (but shorter) sections? (5) Is the description of the proposed supplementary rules in the SUPPLEMENTARY INFORMATION section of this preamble helpful to your understanding of the proposed supplementary rules? How could this description be more helpful in making the proposed supplementary rules easier to understand?

Please send any comments you have on the clarity of the supplementary rules to the address specified in the ADDRESSES section.

National Environmental Policy Act

BLM has prepared Final Environmental Impact Statement (EIS) for the Imperial Sand Dunes Recreation Area dated May 2003, which covers the proposed supplementary rules. BLM has placed the EIS on file in the BLM Administrative Record at the address specified in the ADDRESSES section. BLM invites the public to review these documents and suggests that anyone wishing to address matters covered in the EIS do so in accordance with the Written Comments section above.

Regulatory Flexibility Act

Congress enacted the Regulatory Flexibility Act of 1980 (RFA), as amended, 5 U.S.C. 601-612, to ensure that Government regulations do not unnecessarily or disproportionately burden small entities. The RFA requires a regulatory flexibility analysis if a rule would have a significant economic impact, either detrimental or beneficial, on a substantial number of small entities. These proposed supplementary rules should have no economic effect on business, organizational, or governmental entities of whatever size. They merely would impose reasonable restrictions on certain recreational activities on certain public lands to protect natural resources and the environment,. Therefore, BLM has determined under the RFA that these proposed supplementary rules would not have a significant economic impact on a substantial number of small entities.

Small Business Regulatory Enforcement Fairness Act (SBREFA)

These proposed supplementary rules are not a “major rule” as defined at 5 U.S.C. 804(2). They would not result in an annual effect on the economy of $100 million or more, in a major increase in costs or prices, or in significant adverse effects on competition, employment, investment, productivity, innovation, or on the ability of United States-based enterprises to compete with foreign-based enterprises in domestic and export markets. They would merely impose reasonable restrictions on certain recreational activities on certain public lands to protect natural resources and the environment.

Unfunded Mandates Reform Act

These proposed supplementary rules do not impose an unfunded mandate on state, local, or Tribal governments, in the aggregate, or the private sector, of $100 million or more in any one year; nor do these proposed supplementary rules have a significant or unique effect on small governments. They would merely impose reasonable restrictions on certain recreational activities on certain public lands to protect natural resources and the environment. Therefore, BLM is not required to prepare a statement containing the information required by the Unfunded Mandates Reform Act at 2 U.S.C. 1532.

Executive Order 12630, Governmental Actions and Interference With Constitutionally Protected Property Rights (Takings)

The proposed rule is not government action capable of interfering with constitutionally protected property rights. It simply contains rules of access to an environmentally sensitive area. Therefore, the Department of the Interior has determined that the rule would not cause a taking of private property or require further discussion of takings implications under this Executive Order.

Executive Order 13132, Federalism

The proposed rule will not have a substantial direct effect on the states, on the relationship between the national government and the states, or on the distribution of power and responsibilities among the various levels of government. This rule does not come into conflict with any state law or regulation. Therefore, in accordance with Executive Order 13132, BLM has determined that this proposed rule does not have sufficient Federalism implications to warrant preparation of a Federalism Assessment.

Executive Order 12988, Civil Justice Reform

Under Executive Order 12988, the Office of the Solicitor has determined that this proposed rule would not unduly burden the judicial system and that the requirements of sections 3(a) and 3(b)(2) of the Order are met.

Executive Order 13175, Consultation and Coordination With Indian Tribal Governments

In accordance with Executive Order 13175, we have coordinated with seven interested Tribes in 2002: the Quechan, Colorado River Indian Tribes, Fort Mojave Indian Tribe, Cocopah, the eleven Kumeyaay reservations, the Torres-Martinez Desert Cahuilla, and the Morongo Band. As part of this consultation, we interviewed tribal elders and other representatives of these Tribes concerning heritage values at the dunes. In general, the Tribes favored more law enforcement presence to enforce cultural laws, Therefore, in accordance with Executive Order 13175, we have found that this rule does not include policies that have tribal implications.

Paperwork Reduction Act

These supplementary rules do not contain information collection requirements that the Office of Management and Budget must approve under the Paperwork Reduction Act of 1995, 44 U.S.C. 3501 et seq.

Supplementary Rules For the Imperial Sand Dunes Recreation Management Area

Under 43 CFR 8365.1-6, the Bureau of Land Management will enforce the following rules on the public lands within the Imperial Sand Dunes Recreation Management Area, El Centro Field Office, Desert District, California.

You must follow these rules:

1. No person may enter the Adaptive Management Area within the Imperial Sand Dunes Recreation Area without a permit issued by the Bureau of Land Management authorizing such entry. The AMA is clearly signed warning access only to permit holders. Further language directs person(s) to a location and telephone number to obtain the required permit.

2. Entry and use of the area must be during:

a. the specified time period displayed on the permit,

b. October 15 to March 31.

3. In order to obtain a permit the driver of each vehicle and any individuals walking into the Adaptive Management Area must complete a short resource conservation program.

4. All AMA permits must be signed by the driver of the vehicle or each individual who walks in stating that he/she understands the printed material, including but not limited to the AMA rules and regulations, and a written test proving knowledge of said rules, regulations and all stipulations.

5. Each permit will be assigned to a driver, not a vehicle.

6. A permit flag must be placed directly under the vehicle's existing approved safety flag.

7. With the exception of the microphyll woodlands on the east side of the management area where no access will be allowed. Permit holders must access the Adaptive Management Area through the Adaptive Management Area boundary,

8. Each individual must obey all permit stipulations.

III. Penalties

Under section 303(a) of the Federal Land Policy and Management Act of 1976 (43 U.S.C. 1733(a)) and 43 CFR 8360.0-7, for violation of supplementary rules on public lands within the boundaries established in the rules, you may be tried before a United States Magistrate, fined no more than $1,000 and/or imprisoned for no more than 12 months. Such violations may also be subject to the enhanced fines provided for by 18 U.S.C. 3571.

Dated: September 23, 2005.
Mike Pool,
State Director.

[FR Doc. 05-21041 Filed 10-20-05; 8:45 am]

BILLING CODE 4310-40-P